DEPARTMENT OF TRANSPORTATION

Pipeline and Hazardous Materials Safety Administration

Hazardous Materials: Notice of Application for Special Permits

AGENCY: Pipeline and Hazardous Materials Safety Administration (PHMSA), DOT.

ACTION: List of applications for special permits

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 28, 2015.

ADDRESSES: Send comments to Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on November 4, 2015.
Donald Burger,
Chief, General Approvals and Permits.

Application No. | Docket No. | Applicant | Regulation(s) affected | Nature of permit thereof
NEW SPECIAL PERMITS
16591-N |  | Department of Defense, Scott AFB, IL | 49 CFR 171.3(a), 173.302a, ICAO TI Packing Instruction 200, IMDG Code Packing Instruction P200 | To authorize the transportation in commerce of compressed argon in non-DOT specification cylinders. (modes 1, 3, 4).
16592-N |  | Stericycle Specialty Waste Solutions, Inc., Minneapolis, MN | 49 CFR Subparts A through E of Part 173 | To authorize the transportation in commerce of certain Drug Enforcement Administration (DEA) controlled substances transported for the purpose of disposal. (mode 1).
16596-N |  | Great Slave Helicopters, Ltd., Yellowknife, Canada, NT | 49 CFR 172.101 Hazardous Materials Table Column (9B), Subpart C of Part 172, 172.301(c), 175.30, Part 173 | To authorize transportation in commerce in the U.S. only of certain hazardous materials by Rotorcraft External Load Operations transporting hazardous materials attached to or suspended from an aircraft without being subject to certain hazard communication requirements, quantity limitations, packaging and loading and storage requirements. (mode 4).
16598-N |  | Spaceflights, Inc., Tukwila, WA | 49 CFR 173.24(b)(1), 173.304a, 173.185(a)(1) | To authorize the transportation in commerce of the SHERPA spacecraft containing non-DOT specification cylinders filled with a Division 2.1 gas and three lithium ion batteries contained in equipment that are not of a type proven to meet the criteria in Part III, sub-section 38.3 of the UN Manual of Tests and Criteria. (mode 1).
16601-N |  | SAFC Hitech, Inc., Haverhill, MA | 49 CFR 173.181(b), IMDG Code Packing Instruction P400, paragraph (2) | To authorize the manufacture, mark, sale and use of specially-designed combination packagings for the transportation in commerce of certain pyrophoric hazardous materials. (modes 1, 3).
16602-N |  | Hydrite Chemical Co., Brookfield, WI | 49 CFR 173.158(b), 173.158(e), 173.158(f) | To authorize the transportation in commerce of nitric acid with a concentration up to 50% in UN 3H1 jerricans and UN 1H1 plastic drums. (mode 1).

[FR Doc. 2015-29956 Filed 11-25-15; 8:45 am]

BILLING CODE 4909-60-M